GENERAL SERVICES ADMINISTRATION

[Notice-MRB-2024-03; Docket No. 2024-0002; Sequence No. 31]

Notice of Charter Renewal a Federal Advisory Committee

AGENCY: Office of Government-wide Policy (OGP), General Services Administration (GSA).

ACTION: Notice.

SUMMARY: GSA is announcing the renewal of the charter for the GSA Acquisition Policy Federal Advisory Committee (hereinafter “the Committee” or “the GAP FAC”), a discretionary advisory committee, in accordance with the provisions of the Federal Advisory Committee Act (FACA), as amended.

DATES: Applicable: July 3, 2024.

FOR FURTHER INFORMATION CONTACT: Stephanie Hardison, Designated Federal Officer, OGP, 202-258-6823, or David Cochennic, OGP, 904-403-0829, or email: gapfac@gsa.gov.

SUPPLEMENTARY INFORMATION: This notice is published in accordance with the provisions of the FACA, as amended (Pub. L. 92-463), and announces the renewal of the GAP FAC. The Administrator of GSA has determined that the renewal of the Committee is necessary and in the public interest.

The focus of the renewed GAP FAC shall be on providing GSA advice on regulatory, policy, and procedural reforms. These reforms will facilitate policy development and strategies for implementing emerging technological considerations in the Federal acquisition process including acquisition policy considerations around Artificial Intelligence. Additionally, this will include not only technological advancements but also extend to a broad spectrum of interdisciplinary areas. In accordance with FACA, the renewed charter for the Committee will be filed with the appropriate entities.

Jeffrey A. Koses,
Senior Procurement Executive and Acting Chief Acquisition Officer, Office of Government-wide Policy, General Services Administration.

[FR Doc. 2024-14636 Filed 7-2-24; 8:45 am]

BILLING CODE 6820-61-P